DEPARTMENT OF ENERGY

Federal Energy Regulatory Commission

[Docket No. AD08-4-000; Docket No. ER08-633-000]

Capacity Markets in Regions With Organized Electric Markets ISO New England, Inc.; Supplemental Notice of Technical Conference

April 25, 2008.

As announced in the Notice of Technical Conference issued on February 29, 2008, staff of the Federal Energy Regulatory Commission (Commission) will hold a technical conference on May 7, 2008. The purpose of the conference is to discuss the operation of forward capacity markets in the ISO New England, Inc. (ISO-NE) and the PJM Interconnection, LLC (PJM) regions, and to learn more about the proposals of the American Forest and Paper Association (American Forest) and Portland Cement Association (Portland Cement), and the merit of adopting such changes where appropriate, as described in the Notice of Proposed Rulemaking issued in Docket No. RM07-19-000, et al. Wholesale Competition in Regions with Organized Electric Markets, 73 FR 12,576 (March 7, 2008), FERC Stats. & Regs. ¶ 32,682, at P 25,153 (2008).¹ The technical conference will be held from 9 am to 5 pm (EDT), in the Commission Meeting Room at the Federal Energy Regulatory Commission, 888 First Street, NE., Washington, DC 20426. All interested persons are invited to attend, and registration is not required.

¹ In addition to its filing on September 14, 2007, in Docket No. RM07-19, which described its proposal, American Forest made an informational filing on April 3, 2008, in Docket No. AD08-4.

The agenda for this conference, with a list of participating panelists, is attached. There will be five panels. The first panel will discuss today's long-term capacity markets: Design and early results of PJM's and ISO-NE's forward capacity markets. The second panel will discuss American Forest's financial performance obligation proposal. The third panel will discuss Portland Cement's long-term capacity proposal. The fourth and fifth panels will discuss existing and alternative capacity market designs. It is possible that the discussions may overlap with matters at issue in Docket No. ER08-633.

As previously announced, a free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the Washington, DC, area and via phone-bridge for a fee. If you have any questions, visit http://www.CapitolConnection.org or contact Danelle Perkowski or David Reininger at 703-993-3100.

Transcripts of the meeting will be available immediately for a fee from Ace Reporting Company (202-347-3700 or 1-800-336-6646).

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: David Mead, Office of Energy Market Regulation, Federal Energy Regulatory Commission, 888 First Street, NE., Washington, DC 20426, (202) 502-8028, David.Mead@ferc.gov, and Tina Ham, Office of the General Counsel—Energy Markets, Federal Energy Regulatory Commission, 888 First Street, NE., Washington, DC 20426, (202) 502-6224, Tina.Ham@ferc.gov.

Kimberly D. Bose,
Secretary.

Agenda

Capacity Markets Technical Conference

May 7, 2008

Commission Meeting Room

9-9:10 a.m.: Welcome from FERC Staff.

9:10-10 a.m.: Panel I.

Today's Longer-Term Capacity Markets: Design and Early Results for PJM's Reliability Pricing Model (RPM) and ISO-NE's Forward Capacity Market

Panelists:

The Honorable Frederick Butler, Commissioner, New Jersey Board of Public Utilities

Andrew Ott, Vice President—Markets, PJM Interconnection, LLC

David LaPlante, Vice President, Wholesale Markets Strategy, ISO New England, Inc.

Denis Bergeron, Coordinator of Regional Affairs, Maine Public Utilities Commission

10-11 a.m.: Panel II.

American Forest's Financial Performance Obligation Proposal

Panelists:

Donald J. Sipe, Attorney, Preti, Flaherty, Beliveau & Pachios, on behalf of American Forest & Paper Association

Andrew Ott, Vice President—Markets, PJM Interconnection, LLC

David LaPlante, Vice President, Wholesale Markets Strategy, ISO New England Inc.

Dr. Jonathan A. Lesser, Partner, Bates White LLC, on behalf of the Electric Power Supply Association

Daniel Allegretti, Vice President and Director of Wholesale Energy Policy, Constellation Energy Group, Inc.

11-11:15 a.m.: Break.

11:15 a.m.-12:15 p.m.: Panel III.

Portland Cement's Longer-Term Forward Capacity Proposal

Panelists:

Paul R. Williams, President, Liberty Energy Group, Inc., on behalf of the Portland Cement Association

David LaPlante, Vice President, Wholesale Markets Strategy, ISO New England, Inc.

Andrew Ott, Vice President—Markets, PJM Interconnection, LLC

Roy Shanker, Independent Consultant, on behalf of PJM Power Providers

12:15-1:15 p.m.: Lunch.

1:15-3 p.m.: Panel IV.

Discussion on Existing and Alternative Capacity Market Designs

Panelists:

The Honorable Paul Centolella, Commissioner, Public Utilities Commission of Ohio

Dr. William W. Hogan, Raymond Plank Professor of Global Energy Policy, Harvard University

John J. Boudreau, Director, Business & Regulatory Strategy, Massachusetts Municipal Wholesale Electric Company

James F. Wilson, Principal, LECG LLC

Robert M. Loughney, Attorney, Couch White, LLP, on behalf of Multiple Intervenors and Connecticut Industrial Energy Consumers

Peter Fuller, Director, Regulatory & Market Affairs, New England, NRG Energy, Inc.

Raymond DePillo, Vice President, Power Operations & Trading, PSEG Energy Resources & Trade

Andrew Ott, Vice President—Markets, PJM Interconnection, LLC

David LaPlante, Vice President, Wholesale Markets Strategy, ISO New England Inc.

Marie Pieniazek, Vice President, Government & Regulatory Affairs, Energy Curtailment Specialists, Inc.

3-3:15 p.m.: Break.

3:15-5 p.m.: Panel V.

Discussion continues

Panelists:

Randy Rismiller, Manager of Federal Energy Programs, Illinois Commerce Commission

Michael Allman, President & CEO, Sempra Generation

Joseph E. Bowring, Market Monitor, PJM Interconnection, LLC

Randall Speck, Attorney, Kaye Scholer LLP, on behalf of the Maryland Public Service Commission and the Connecticut Department of Public Utility Control

Donald J. Sipe, Attorney, Preti, Flaherty, Beliveau & Pachios, on behalf of American Forest & Paper Association

Robert G. Ethier, Director, Resource Adequacy and Chief Economist, ISO New England, Inc.

Robert A. Weishaar, Jr., McNees Wallace & Nurick LLC, on behalf of PJM Industrial Customer Coalition and NEPOOL Industrial Customer Coalition

Dr. Eric C. Woychik, Vice President of Regulatory Affairs, Comverge, Inc.

Roy Shanker, Independent Consultant, on behalf of PJM Power Providers

Steve Elsea, Director of Energy Services, Leggett & Platt, Inc.

[FR Doc. E8-9781 Filed 5-2-08; 8:45 am]

BILLING CODE 6717-01-P